DEPARTMENT OF TRANSPORTATION

Federal Aviation Administration

14 CFR Part 71

[Docket No. FAA-2019-0466; Airspace Docket No. 19-ACE-8]

RIN 2120-AA66

Proposed Revocation of Class E Airspace; Marshalltown, IA: Withdrawal

AGENCY: Federal Aviation Administration (FAA), DOT.

ACTION: Notice of proposed rulemaking (NPRM); withdrawal.

SUMMARY: The FAA is withdrawing the NPRM published in the Federal Register on August 14, 2019, to amend Class E airspace extending upward from 700 feet above the surface at Marshalltown Municipal Airport, Marshalltown, IA. Upon further consideration, the FAA has determined that an operational requirement for the airspace still exists; therefore, withdrawal of the proposed rule is warranted

DATES: As of September 12, 2019 the proposed rule published August 14, 2019, at 84 FR 40299, is withdrawn.

FOR FURTHER INFORMATION CONTACT: Rebecca Shelby, Federal Aviation Administration, Operations Support Group, Central Service Center, 10101 Hillwood Parkway, Fort Worth, TX 76177; telephone (817) 222-5857.

SUPPLEMENTARY INFORMATION:

History

On August 14, 2019 (84 FR 40299), the FAA published in the Federal Register an NPRM proposing to modify Class E airspace extending upward from 700 feet above the surface at Marshalltown, IA, due to the decommissioning of the Elmwood VHF omnidirectional range (VOR) navigation aid, which provides navigation guidance for the instrument procedures at these airports, as part of the VOR Minimum Operational Network (MON) Program.

FAA's Conclusions

Upon further consideration, we have determined that the amending of the Class E airspace is not warranted at this time. Therefore, the NPRM is withdrawn.

List of Subjects in 14 CFR Part 71

Airspace, Incorporation by reference, Navigation (air).

The Withdrawal

Accordingly, pursuant to the authority delegated to me, the NPRM published in the Federal Register on August 14, 2019 (84 FR 40299) [FR Doc. 2019-17368] is hereby withdrawn.

Authority: 49 U.S.C. 106(f), 106(g); 40103, 40113, 40120; E.O. 10854, 24 FR 9565, 3 CFR, 1959-1963 Comp., p. 389.

Issued in Fort Worth, Texas, on September 4, 2019.
Steve Szukala,
Acting Manager, Operations Support Group, ATO Central Service Center.

[FR Doc. 2019-19657 Filed 9-11-19; 8:45 am]

BILLING CODE 4910-13-P